STATE JUSTICE INSTITUTE

SJI Board of Directors Meeting, Notice

AGENCY: State Justice Institute.

ACTION: Notice of meeting.

SUMMARY: The SJI Board of Directors will be meeting on Monday, September 12, 2016 at 1:00 p.m. The meeting will be held at the Multnomah County Circuit Court in Portland, Oregon. The purpose of this meeting is to consider grant applications for the 4th quarter of FY 2016, and other business. All portions of this meeting are open to the public.

ADDRESSES: Multnomah County Circuit Court, 1021 SW Fourth Avenue, Portland, Oregon, 97204.

FOR FURTHER INFORMATION CONTACT: Jonathan Mattiello, Executive Director, State Justice Institute, 11951 Freedom Drive, Suite 1020, Reston, VA 20190, 571-313-8843, contact@sji.gov.

Jonathan D. Mattiello,
Executive Director.

[FR Doc. 2016-20181 Filed 8-23-16; 8:45 am]

BILLING CODE P